ARCHITECTURAL AND TRANSPORTATION BARRIERS COMPLIANCE BOARD

[Docket No. ATBCB-2016-0001]

RIN 3014-0012

Proposed Renewal of Information Collection; OMB Control Number 3014-0012, Online Architectural Barriers Act (ABA) Complaint Form

AGENCY: Architectural and Transportation Barriers Compliance Board.

ACTION: Notice and request for comments.

SUMMARY: We, the Architectural and Transportation Barriers Compliance Board (Access Board), plan to request that the Office of Management and Budget (OMB) renew its approval for the information collection described below, namely our Online Architectural Barriers Act Complaint Form—Office of Management and Budget (OMB) Control Number 3014-0012. In compliance with the Paperwork Reduction Act of 1995 and as part of our continuing efforts to reduce paperwork and respondent burden, we invite the general public and other federal agencies to comment on this information collection. The information collection is scheduled to expire on July 31, 2016, and we propose to continue using the instrument for an additional three years.

DATES: Consideration will be given to all comments received by September 26, 2016.

ADDRESSES: Submit comments by any of the following methods:

• Federal eRulemaking Portal http://www.regulations.gov. Follow the instructions for submitting comments. Regulations.gov ID for this docket is ATBCB-2016-0001.

• Email: damiani@access-board.gov. Include docket number ATBCB-2016-0001 in the subject line of the message.

• Fax: 202-272-0081.

• Mail or Hand Delivery/Courier: Mario Damiani, Office of the General Counsel, U.S. Access Board, 1331 F Street NW., Suite 1000, Washington, DC 20004-1111.

All comments received, including any personal information provided, will be posted without change to http://www.regulations.gov and will be available for public viewing.

FOR FURTHER INFORMATION CONTACT: Mario Damiani, Office of the General Counsel, U.S. Access Board, 1331 F Street NW., Suite 1000, Washington, DC 20004-1111. Telephone number: 202-272-0050 (voice); 202-272-0064 (TTY); 202-272-0081 (Fax). Electronic mail address: damiani@access-board.gov.

SUPPLEMENTARY INFORMATION:

Title of Collection: Online Architectural Barriers Act (ABA) Complaint Form

OMB Control Number: 3014-0012

Type of Request: Renewal of information collection.

Abstract: The Architectural and Transportation Barriers Compliance Board (Access Board) is seeking to renew its information collection for its Online Architectural Barriers Act (ABA) Complaint Form. The instrument allows complainants to submit a complaint online using a standardized web-based complaint form, which prompts them to provide their allegations and other pertinent data necessary for the Access Board to investigate their ABA complaint. The form is user-friendly and accessible, and allows for greater efficiency, clarity, and timeliness in the complaint filing process.

Use of the Information

The Access Board enforces the ABA by investigating complaints submitted by members of the public concerning particular buildings or facilities designed, altered, or built, by or on behalf of, or leased by, federal agencies, or financed by federal funds. Over 90 percent of complaints the Access Board receives each year are submitted using the Online Complaint Form; the remainder are submitted in writing, without the need for using a hard-copy complaint form, by email, mail, or fax. The online form allows complaints to be filed 24 hours per day, seven days per week. Once complaints are filed, Access Board Compliance Specialists are assigned to investigate each complaint.

As noted above, the Online Complaint Form prompts complainants to provide the information the Compliance Specialists need in order to investigate the complaint. First, complainants must complete the form fields for the name and address of the building or facility. Second, complainants must describe each barrier to accessibility they have found at the building or facility. Third, complainants are prompted to provide personal information, including their name, address, telephone number(s), and email address; this information is entirely optional, as complaints can be submitted anonymously. Where provided, personal information is not disclosed outside the agency without written permission of the complainant. Complainants also have the option to attach electronic files containing pictures, drawings, or other relevant documents to the online complaint form when it is filed. Once any additional information and the complaint is submitted, the system provides complainants confirmation that their complaint has been submitted successfully, together with a complaint number for them to use when making inquiries about the status of their complaint.

We note that use of the online complaint form has greatly improved the completeness of the information included in complaints that are submitted for investigation, and that this in turn has expedited the processing of complaints.

Estimate of Burden

Public reporting burden for this collection of information is estimated to average less than 30 minutes to complete the online complaint form, depending on the number of alleged barriers the complainant identifies.

There is no financial burden on the complainant. Use of the online form relieves much of the burden that the prior practice of using a paper complaint form put on complainants by making it clear which information is required and which is optional, and by essentially walking complainants through the process step-by-step. As noted above, over 90 percent of all ABA complaints are submitted using the online form, but the Access Board continues to accept complaints submitted by email, mail, or fax for complainants who prefer or need to use those filing methods.

Respondents

Individuals. Approximately 200 individuals file ABA complaints with the Access Board each year.

Estimated Number of Responses

Assuming all complainants choose to file complaints using the on-line complaint form, approximately 200 individuals would use the on-line complaint form annually.

Frequency of Responses

Complainants need only submit one online form for each building or facility at which they have found accessibility barriers, regardless of the number of barriers they find. Most complainants file only one ABA complaint. Complainants will need to submit a separate form for each additional building or facility at which they have found an accessibility barrier.

Estimated Total Annual Burden on Respondents

Approximately 30 minutes per respondent total time is all that will be needed to complete the online complaint form, for a total of 100 hours annually. Again, there is no financial burden on complainants.

Comments Requested

Comments are invited on (a) whether the proposed collection of information is necessary for the proper performance of the functions of the agency, including whether the information will have practical utility; (b) the accuracy of the estimated burden of the proposed collection of information; (c) ways to enhance the quality, utility, and clarity of the information from respondents; and (d) ways to minimize the burden of the collection of information on those who are to respond.

David M. Capozzi,
Executive Director.

[FR Doc. 2016-17516 Filed 7-25-16; 8:45 am]

BILLING CODE P